SMALL BUSINESS ADMINISTRATION

[Declaration of Disaster #3497]

State of Missouri

(Amendment #2)

In accordance with a notice received from the Department of Homeland Security—Federal Emergency Management Agency, effective May 16, 2003, the above numbered declaration is hereby amended to include Audrain, Boone, Callaway, Chariton, Clark, Cole, Howard, Knox, Lewis, Lincoln, Marion, Moniteau, Montgomery, Osage, Pike, Ralls, Randolph and Shelby Counties in the State of Missouri as disaster areas due to damages caused by severe storms, tornadoes and flooding occurring on May 4, 2003 and continuing.

In addition, applications for economic injury loans from small businesses located in the contiguous counties of Adair, Linn, Livingston, Macon, Monroe and Scotland in the State of Missouri; Adams, Calhoun, Hancock and Pike Counties in the State of Illinois; and Lee and Van Buren Counties in the State of Iowa may be filed until the specified date at the previously designated location. All other counties contiguous to the above named primary counties have been previously declared.

The economic injury number assigned to Iowa is 9V4400.

All other information remains the same, i.e., the deadline for filing applications for physical damage is July 7, 2003, and for economic injury the deadline is February 6, 2004.

(Catalog of Federal Domestic Assistance Program Nos. 59002 and 59008)

Dated: May 19, 2003.
Herbert L. Mitchell,
Associate Administrator for Disaster Assistance.

[FR Doc. 03-13107 Filed 5-23-03; 8:45 am]

BILLING CODE 8025-01-P